DEPARTMENT OF HOMELAND SECURITY

Coast Guard

[Docket No. USCG-2020-0278]

Port Access Route Study: Northern New York Bight

AGENCY: Coast Guard, DHS.

ACTION: Supplemental notice of study, request for comments.

SUMMARY: The Coast Guard is seeking additional information related to the notice of study that was published on June 29, 2020, regarding the Northern New York Bight Port Access Route Study (NNYBPARS). Following a review of the comments and materials received, we identified several areas of additional inquiry related to the study. We invite your comments and responses to the proposed questions and information requests.

DATES: Comments and related material must be received on or before May 12, 2021. Commenters should be aware that the electronic Federal Docket Management System will not accept comments after midnight Eastern Daylight Time on the last day of the comment period.

ADDRESSES: You may submit comments identified by docket number USCG-2020-0278 using the Federal eRulemaking Portal http://www.regulations.gov. See the “Public Participation and Request for Comments” portion of the SUPPLEMENTARY INFORMATION section for further instructions on submitting comments.

FOR FURTHER INFORMATION CONTACT: If you have questions about this supplemental notice of study, call or email Mr. Craig Lapiejko, First Coast Guard District (dpw), U.S. Coast Guard; telephone (617) 223-8351, email craig.d.lapiejko@uscg.mil.

SUPPLEMENTARY INFORMATION:

I. Table of Abbreviations

ACPARS Atlantic Coast Port Access Route Study

ANPRM Advance Notice of Proposed Rulemaking

AIS Automatic Identification System

COMDTINST Commandant Instruction

DHS Department of Homeland Security

NNYBPARS Northern New York Bight Port Access Route Study

OCS Outer Continental Shelf

PARS Port Access Route Study

TSS Traffic Separation Scheme

U.S.C. United States Code

USCG United States Coast Guard

VMS Vessel Monitoring System

VTR Vessel Trip Report

II. Background and Purpose

On June 29, 2020, the Coast Guard published a Notice of Study and public meetings; request for comments entitled “Port Access Route Study (PARS): Northern New York Bight” in the Federal Register (85 FR 38907) to evaluate the adequacy of existing vessel routing measures and determine whether additional vessel routing measures are necessary for port approaches to New York and New Jersey and international and domestic transit areas in the First Coast Guard District area of responsibility. This undertaking is required by 46 U.S.C. 70003, which calls for the Coast Guard to conduct a PARS prior to establishing fairways or traffic separation schemes (TSSs).

The public was afforded a 60-day comment period, and two public meetings were held via teleconference and webinar to receive public input. The Coast Guard received 24 comments in response to our Federal Register Notice, public meetings and other outreach efforts. A preliminary review of the comments and related materials received identified additional opportunities for inquiry. For instance, obtaining additional vessel traffic and activities data would help inform several aspects of the study. In this notice, we also seek responses supplying quantitative data or suggesting other authoritative sources that specifically address the items listed in section III.

All comments and supporting documents are available in a public docket and can be viewed at http://www.regulations.gov, In the “Search” box insert “USCG-2020-0278” and click “Search.” Click the “Open Docket Folder” in the “Actions” column.

III. Information Requested

Where possible and pertinent, please provide sources, citations and references to back up or justify your responses. Also, for all pertinent responses, please provide a detailed explanation of how you arrived at your conclusion and the underlying assessment that supports your conclusion. Finally, for all numerical responses please provide us with sufficient information to recreate your calculations. We seek public feedback on the following items:

a. The Coast Guard is conducting the NNYBPARS in accordance with COMDTINST 16003.2B, Marine Planning to Operate and Maintain the Marine Transportation System (MTS) and Implement National Policy. The instruction is available at https://media.defense.gov/2019/Jul/10/2002155400/-1/-1/0/CI_16003_2B.PDF. The Coast Guard requests information applicable to 1) PARS objectives and 2) data and other information to assist the Coast Guard conduct the NNYBPARS.

1. PARS Objectives;

i. Determine present traffic density; `

ii. Determine potential traffic density;

iii. Determine if existing vessel routing measures are adequate;

iv. Determine if existing vessel routing measures require modifications;

v. Determine the type of modifications;

vi. Define and justify the needs for new vessel routing measures;

vii. Determine the type of new vessel routing measures; and

viii. Determine if the usage of the vessel routing measures must be mandatory for specific classes of vessels.

2. Data and other information;

i. Vessel traffic characteristics and trends (both existing and potential), including traffic volume, size and types of vessels, potential interference with the flow of commercial traffic, presence of any unusual cargoes, and other similar information;

ii. Fishing activity;

iii. Recreational boating traffic;

iv. Commercial ferry traffic;

v. Military activities;

vi. Existing and potential outer continental shelf (OCS) resource development activities;

vii. Environmental information and factors which may be impacted by potential or amended vessel routing measures;

viii. Underway and projected dredging projects;

ix. Port development activities;

x. Native American Tribal activities and impacts of potential or amended vessel routing measures;

xi. Economic (costs and benefits) effects and impacts; and

xii. Any additional information that arises as a result of public comments.

b. The Coast Guard is utilizing automatic information system (AIS) data, vessel monitoring system (VMS) data, vessel trip report (VTR) data, and fisheries observer data to conduct the NNYBPARS. The Coast Guard requests maritime community representatives provide any additional info that may assist the Coast Guard conduct the NNYBPARS.

c. Do maritime community representatives anticipate impacts to navigation as a result of planned or potential future developments, whether in port, inshore or offshore in the areas within or directly adjacent to the Northern New York Bight (please explain and be specific as possible)?

1. How will vessel navigation routes change as a result of planned or potential future developments?

2. Do maritime community representatives request additional routing measures other than those that currently exist or are being proposed via the Advanced Notice of Proposed Rulemaking (ANPRM) in the Federal Register (85 FR 37034, June 19, 2020) related to planned or potential future developments (please explain and be as specific as possible)?

d. The Coast Guard received numerous comments in response to our Federal Register Notice, public meetings and other outreach efforts requesting various fairway widths (i.e. 4 NM, 5 NM, 9 NM), to extend current traffic separation schemes, or to identify historical anchorage locations.

1. The Coast Guard requests maritime community representatives provide evidence of why routing measures need to be of the requested width.

2. The Coast Guard requests maritime community representatives provide evidence for the need to extend traffic separation schemes in the Northern New York Bight area out to the OCS.

3. The Coast Guard requests maritime community representatives specifically identify historical anchorages that are requested to be federally recognized. Please provide coordinates.

IV. Public Participation and Request for Comments

We encourage you to participate in this study by submitting comments and related materials through the Federal portal at https://www.regulations.gov. In your submission, please include the docket number for this notice of inquiry and provide a reason for each suggestion or recommendation. If your material cannot be submitted using https://www.regulations.gov, contact the person in the FOR FURTHER INFORMATION CONTACT section of this document for alternate instructions.

We accept anonymous comments. Comments we post to https://www.regulations.gov will include any personal information you have provided. For more about privacy and submissions in response to this document, see DHS's eRulemaking System of Records notice (85 FR 14226, March 11, 2020).

Documents mentioned in this notice of inquiry as being available in the docket, and public comments, will be in our online docket at https://www.regulations.gov and can be viewed by following that website's instructions. We review all comments received, but we may choose not to post off-topic, inappropriate, or duplicate comments that we receive. If you visit the online docket and sign up for email alerts, you will be notified when comments are posted or if a final rule is published.

This notice is published under the authority of 5 U.S.C. 552(a).

Dated: April 2, 2021.
T.G. Allan Jr.,
Rear Admiral, U.S. Coast Guard, Commander, First Coast Guard District.

[FR Doc. 2021-07469 Filed 4-9-21; 8:45 am]

BILLING CODE 9110-04-P